DEPARTMENT OF AGRICULTURE

Agricultural Marketing Service

[Docket No. FV01-369]

Fruit and Vegetable Industry Advisory Committee

AGENCY: Agricultural Marketing Service, USDA.

ACTION: Notice of establishment; request for nominations.

SUMMARY: The U.S. Department of Agriculture (USDA) has established the Fruit and Vegetable Industry Advisory Committee (Committee). The purpose of the Committee is to examine the full spectrum of issues faced by the fruit and vegetable industry and provide suggestions and ideas to the Secretary of Agriculture on how USDA can tailor its programs to meet the fruit and vegetable industry's needs. USDA also seeks nominations of individuals to be considered for selection as Committee members.

DATES: Written nominations must be received on or before September 20, 2001.

ADDRESSES: Nominations should be sent to Mr. Robert C. Kenney, Deputy Administrator, Fruit and Vegetable Programs, AMS, USDA, Room 2077 South Building, P.O. Box 96456, Washington, DC 20090-6456, (202) 720-4722, E-mail—robert.keeney@usda.gov.

SUPPLEMENTARY INFORMATION: Pursuant to the Federal Advisory Committee Act (FACA) (5 U.S.C. App.), notice is hereby given that the Secretary of Agriculture has established the Fruit and Vegetable Industry Advisory Committee. The purpose of the Committee is to examine the full spectrum of issues faced by the fruit and vegetable industry and provide suggestions and ideas to the Secretary on how USDA can tailor its programs to meet the fruit and vegetable industry's needs.

The members of the Committee will elect the Chairperson and Vice-Chairperson of the Committee who will serve for a 2-year term. In absence of the Chairperson, the Vice-Chairperson will act in the Chairperson's stead. The Deputy Administrator of the Agricultural Marketing Service's Fruit and Vegetable Programs will serve as the Committee's Executive Secretary. Representatives from USDA mission areas and agencies affecting the fruit and vegetable industry will be called upon to participate in the Committee's meetings as determined by the Committee Chairperson.

Industry members will be appointed by the Secretary of Agriculture and serve 2-year terms. Membership will consist of twenty (20) members who represent the fruit and vegetable industry and will include; six (6) representatives of fresh fruit and vegetable growers/shippers; four (4) representatives of fresh fruit and vegetable wholesalers; two (2) representatives of brokers; two (2) representatives of retailers; two (2) representatives of fruit and vegetable processors; two (2) representatives of foodservice suppliers; one (1) state department of agriculture official; and one (1) trade association representative.

The Secretary of Agriculture invites those individuals, organizations, and groups affiliated with the categories listed above to nominate individuals for membership on the Committee. Nominations should describe and document the proposed member's qualifications for membership to the Committee. The Secretary of Agriculture seeks a diverse group of members representing a broad spectrum of persons interested in providing suggestions and ideas on how USDA can tailor its programs to meet the fruit and vegetable industry's needs.

Individuals receiving nominations will be contacted and biographical information must be completed and returned to USDA within 10 working days of notification, to expedite the clearance process that is required before selection by the Secretary of Agriculture.

Equal opportunity practices will be followed in all appointments to the Committee in accordance with USDA policies. To ensure that the recommendations of the Committee have taken into account the needs of the diverse groups served by USDA, membership shall include, to the extent practicable, individuals with demonstrated ability to represent minorities, women, persons with disabilities, and limited resource agriculture producers.

Dated: August 15, 2001.
Lou Gallegos,
Assistant Secretary for Administration.

[FR Doc. 01-21040 Filed 8-20-01; 8:45 am]

BILLING CODE 3410-02-M